DEPARTMENT OF ENERGY

Federal Energy Regulatory Commission

[Docket Nos. EC03-126-000, et al.]

Global Common Greenport, LLC, et al.; Electric Rate and Corporate Filings

August 22, 2003.

The following filings have been made with the Commission. The filings are listed in ascending order within each docket classification.

1. Global Common Greenport, LLC

[Docket No. EC03-126-000]

Take notice that on August 18, 2003, Global Common Greenport LLC (GCG or the Applicant) filed with the Federal Energy Regulatory Commission (the Commission) an application pursuant to Section 203 of the Federal Power Act seeking authorization to dispose of its jurisdictional assets. Specifically, as part of a corporate reorganization, GCG's member interests will be transferred to its corporate affiliates WJH Holding, LLC and William J. Haugland. GCG is a Commission-authorized power marketer.

Comment Date: September 8, 2003.

2. Southern California Edison Company

[Docket No. EL02-126-001]

Take notice that on August 14, 2003, Southern California Edison Company (Edison) tendered for filing with the Federal Energy Regulatory Commission (Commission) a compliance filing pursuant to the Commission's July 16, 2003 Order Directing the Submission of Additional Information. Edison states that it is unable to supply the Commission with all of the requested information at this time.

Edison states that copies of this filing were served upon the parties listed on the service list in Docket No. EL02-126-000.

Comment Date: September 15, 2003.

3. Entergy Services, Inc.

Generator Coalition (Consolidated) v. Entergy Services, Inc.

[Docket No. EL02-46-003 and ER01-2201-004]

Take notice that on August 14, 2003, Entergy Services, Inc, (Entergy) filed a refund report in the above-referenced dockets relating to Entergy's Generator Imbalance Agreement. A copy of the refund report has been served on all parties to the service lists in the above-referenced proceedings and the state commissions in the Entergy region.

Comment Date: September 4, 2003.

4. MDU Resources Group, Inc.

[Docket No. ES03-52-000]

Take notice that on August 19, 2003, MDU Resources Group, Inc. submitted an application pursuant to Section 204 of the Federal Power Act seeking authorization to issue additional shares of common stock in connection with a three-for-two stock split of common stock, to be effected in the form of a fifty-percent stock dividend.

Comment Date: September 12, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. 03-22215 Filed 8-29-03; 8:45 am]

BILLING CODE 6717-01-P